UNIFIED CARRIER REGISTRATION PLAN

Sunshine Act Meetings

TIME AND DATE: October 27, 2022, 12:00 p.m. to 3:00 p.m., Eastern time.

PLACE: This meeting will be accessible via conference call and via Zoom Meeting and Screenshare. Any interested person may call (i) 1-929-205-6099 (U.S. Toll) or 1-669-900-6833 (U.S. Toll) or (ii) 1-877-853-5247 (U.S. Toll Free) or 1-888-788-0099 (U.S. Toll Free), Meeting ID: 915 9367 7179, to listen and participate in this meeting. The website to participate via Zoom Meeting and Screenshare is https://kellen.zoom.us/meeting/register/tJUofuquqTwrHd3ebFPcweg6eDMBswbWEwTJ.

STATUS: This meeting will be open to the public.

MATTERS TO BE CONSIDERED: The Unified Carrier Registration Plan Board of Directors (the “Board”) will continue its work in developing and implementing the Unified Carrier Registration Plan and Agreement. The subject matter of this meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

Board actions taken only in designated areas on agenda.

IV. Approval of Minutes of the September 27, 2022, UCR Board Meeting—UCR Board Chair

For Discussion and Possible Board Action

Draft Minutes from the September 27, 2022, UCR Board meeting will be reviewed. The Board will consider action to approve.

V. Report of FMCSA—FMCSA Representative

The Federal Motor Carrier Safety Administration (FMCSA) will provide a report on relevant activity.

VI. Subcommittee Reports

Audit Subcommittee—UCR Audit Subcommittee Chair

A. UCR Participation in FMCSA Out-of-Service Violations—UCR Audit Subcommittee Chair

For Discussion and Possible Board Action

The UCR Audit Subcommittee Chair will lead a discussion regarding a plan to work jointly with IRP and IFTA to add failure to register for any or all of these regulatory programs to the CVSA Out-of-Service criteria. This effort is based on data including the 2017 FMCSA Safety Analysis Report of Interstate Carriers with UCR, IRP and IFTA Violations and other data showing an enhanced risk of crash for these unregistered motor carriers. The UCR Board will discuss this issue and may authorize the UCR Audit Subcommittee and UCR Plan to work with both IRP and IFTA representatives to submit this request to CVSA for CVSA's review and approval.

B. Review of States' Audit Compliance Rates for Registration Years 2021 and 2022—UCR Audit Subcommittee Chair

The UCR Audit Subcommittee Chair will present registration performance statistics and the related compliance percentages, Focused Anomaly Reviews (FARs), unregistered brackets 5 and 6 motor carrier audits for the 2021 and 2022 registration years.

Finance Subcommittee—UCR Finance Subcommittee Chair

Removal of 2025 Fee Change Recommendation So That Current Fee Recommendation is for the 2024 Registration Year Only—UCR Finance Subcommittee Chair

For Discussion and Possible Board Action

The UCR Finance Subcommittee Chair will lead a discussion regarding a revision to the 2024 and 2025 UCR fee change recommendation to officially remove the 2025 fee recommendation from the current request that was approved by the UCR Board during the August 11, 2022 UCR Board meeting. There will be no change to the fee levels contained in the 2024 fee recommendation. Instead, the UCR Board may decide to submit a fee change recommendation for the 2025 Registration Year at the proposed July 27, 2023 UCR Board Meeting. The UCR Board may take action to approve the removal of the 2025 fee from the current fee recommendation.

Education and Training Subcommittee—UCR Education and Training Subcommittee Chair

Update on Current and Future Training Initiatives—UCR Education and Training Subcommittee Chair and UCR Staff Executive

The Education and Training Subcommittee Chair and the UCR Staff Executive will provide an update on current and planned future training initiatives and the E-Certificate program.

Industry Advisory Subcommittee—UCR Industry Advisory Subcommittee Chair

Update on Current Initiatives—UCR Industry Advisory Subcommittee Chair and UCR Staff Executive

The UCR Industry Advisory Subcommittee Chair and the UCR Staff Executive will provide an update on current and planned initiatives regarding motor carrier industry concerns.

VII. Contractor Reports—UCR Executive Director

• UCR Executive Director's Report

The UCR Executive Director will provide a report covering recent activity for the UCR Plan.

• DSL Transportation Services, Inc.

DSL Transportation Services, Inc. will report on the latest data from the Focused Anomaly Reviews (FARs) program, discuss motor carrier inspection results, pilot projects and other matters.

• Seikosoft

Seikosoft will provide an update on recent/new activity related to the National Registration System (NRS).

• UCR Administrator Report (Kellen)

The UCR Staff Executive will provide a management report covering recent activity for the Depository, Operations, and Communications.

VIII. Other Business—UCR Board Chair

The UCR Board Chair will call for any other business, old or new, from the floor.

IX. Adjournment—UCR Board Chair

The UCR Board Chair will adjourn the meeting.

The agenda will be available no later than 5:00 p.m. Eastern time, October 19, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-23100 Filed 10-20-22; 11:15 am]

BILLING CODE 4910-YL-P